DEPARTMENT OF AGRICULTURE

Forest Service

Northern Utah Resource Advisory Committee

AGENCY: Forest Service, Agriculture (USDA).

ACTION: Notice of meeting.

SUMMARY: The Northern Utah Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on Ashley and Uinta-Wasatch-Cache National Forests, consistent with the Federal Lands Recreation Enhancement Act. RAC information and meeting information can be found at the following website: https://www.fs.usda.gov/ashley/and https://www.fs.usda.gov/uwcnf.

DATES: The meeting will be held on September 22, 2021 at 6:00 p.m., Mountain Daylight Time.

All RAC meetings are subject to cancellation. For status of the meeting prior to attendance, please contact the person listed under For Further Information Contact.

ADDRESSES: The meeting will be held virtually via telephone and/or video conference. To obtain telephone and/or video conferencing information for the meeting, call the Uinta-Wasatch-Cache National Forest Supervisor's Office at (801) 999-2113.

Written comments may be submitted as described under Supplementary Information. All comments, including names and addresses when provided, are placed in the record and are available for public inspection and copying. The public may inspect comments received upon request.

FOR FURTHER INFORMATION CONTACT: Dave Whittekiend, Designated Federal Officer (DFO), by phone at 801-503-7190 or by email at david.whittekiend@usda.gov, or Ms. Loyal Clark at 801-999-2113 or by email at loyal.clark@usda.gov.

Individuals who use telecommunication devices for the hearing-impaired (TDD) may call the Federal Relay Service (FRS) at 1-800-877-8339, 24 hours a day, every day of the year, including holidays.

SUPPLEMENTARY INFORMATION: The purpose of the meeting is to:

1. Approve August 25th meeting minutes;

2. Address additional Resource Advisory Committee business;

3. Review and prioritize Title II project proposals;

4. Entertain general questions and answers; and

5. Schedule next meeting.

The meeting is open to the public. The agenda will include time for people to make oral statements of three minutes or less. Individuals wishing to make an oral statement should request in writing by September 10, 2021, to be scheduled on the agenda. Anyone who would like to bring related matters to the attention of the committee may file written statements with the committee staff before or after the meeting. Written comments and requests for time for oral comments must be sent to Ms. Loyal Clark, Uinta-Wasatch-Cache National Forest, 857 West South Jordan Parkway, South Jordan, UT 84057; or by email to loyal.clark@usda.gov.

Reasonable Accommodations: If you are a person requiring reasonable accommodation, please make requests in advance for sign language interpreting, assistive listening devices, or other reasonable accommodation. For access to the facility or proceedings, please contact the persons listed in the section titled For Further Information Contact. All reasonable accommodation requests are managed on a case-by-case basis.

Dated: August 23, 2021.
Cikena Reid,
USDA Committee Management Officer.

[FR Doc. 2021-18469 Filed 8-26-21; 8:45 am]

BILLING CODE 3411-15-P